DEPARTMENT OF ENERGY

Federal Energy Regulatory Commission

Combined Notice of Filings #1

Take notice that the Commission received the following electric rate filings:

Docket Numbers: ER20-711-001.

Applicants: Cambria Wind, LLC.

Description: Tariff Amendment: Amendment to MBR Application to be effective 1/31/2020.

Filed Date: 1/15/20.

Accession Number: 20200115-5107.

Comments Due: 5 p.m. ET 1/22/20.

Docket Numbers: ER20-793-000.

Applicants: American Transmission Systems, Incorporated, PJM Interconnection, L.L.C.

Description: § 205(d) Rate Filing: ATSI submits (3) ECSAs, Service Agreement Nos. 5390, 5506, 5516 to be effective 3/14/2020.

Filed Date: 1/14/20.

Accession Number: 20200114-5153.

Comments Due: 5 p.m. ET 2/4/20.

Docket Numbers: ER20-794-000.

Applicants: Midcontinent Independent System Operator, Inc, Otter Tail Power Company.

Description: § 205(d) Rate Filing: 2020-01-15_SA 3403 OTP-NSP FSA (J460) CapX Brookings to be effective 3/16/2020.

Filed Date: 1/15/20.

Accession Number: 20200115-5058.

Comments Due: 5 p.m. ET 2/5/20.

Docket Numbers: ER20-795-000.

Applicants: Southern California Edison Company.

Description: § 205(d) Rate Filing: Amended SGIA Buck Wind Park Project WDT685 SA No. 523 to be effective 1/16/2020.

Filed Date: 1/15/20.

Accession Number: 20200115-5067.

Comments Due: 5 p.m. ET 2/5/20.

Docket Numbers: ER20-796-000.

Applicants: Adelanto Solar, LLC.

Description: § 205(d) Rate Filing: Adelanto Solar, LLC Amendment to MBR Tariff to be effective 1/16/2020.

Filed Date: 1/15/20.

Accession Number: 20200115-5081.

Comments Due: 5 p.m. ET 2/5/20.

Docket Numbers: ER20-797-000.

Applicants: Adelanto Solar II, LLC.

Description: § 205(d) Rate Filing: Adelanto Solar II, LLC Amendment to MBR Tariff to be effective 1/16/2020.

Filed Date: 1/15/20.

Accession Number: 20200115-5084.

Comments Due: 5 p.m. ET 2/5/20.

Docket Numbers: ER20-798-000.

Applicants: Blythe Solar 110, LLC.

Description: § 205(d) Rate Filing: Blythe Solar 110, LLC Amendment to MBR Tariff to be effective 1/16/2020.

Filed Date: 1/15/20.

Accession Number: 20200115-5085.

Comments Due: 5 p.m. ET 2/5/20.

Docket Numbers: ER20-799-000.

Applicants: Blythe Solar II, LLC.

Description: § 205(d) Rate Filing: Blythe Solar II, LLC Amendment to MBR Tariff to be effective 1/16/2020.

Filed Date: 1/15/20.

Accession Number: 20200115-5086.

Comments Due: 5 p.m. ET 2/5/20.

Docket Numbers: ER20-800-000.

Applicants: Casa Mesa Wind, LLC.

Description: § 205(d) Rate Filing: Casa Mesa Wind, LLC Amendment to MBR Tariff to be effective 1/16/2020.

Filed Date: 1/15/20.

Accession Number: 20200115-5087.

Comments Due: 5 p.m. ET 2/5/20.

Docket Numbers: ER20-801-000.

Applicants: Golden Hills Interconnection, LLC.

Description: § 205(d) Rate Filing: Golden Hills Interconnection, LLC Amendment to MBR Tariff to be effective 1/16/2020.

Filed Date: 1/15/20.

Accession Number: 20200115-5088.

Comments Due: 5 p.m. ET 2/5/20.

Docket Numbers: ER20-802-000.

Applicants: Golden Hills North Wind, LLC.

Description: § 205(d) Rate Filing: Golden Hills North Wind, LLC Amendment to MBR Tariff to be effective 1/16/2020.

Filed Date: 1/15/20.

Accession Number: 20200115-5089.

Comments Due: 5 p.m. ET 2/5/20.

Docket Numbers: ER20-803-000.

Applicants: Golden Hills Wind, LLC.

Description: § 205(d) Rate Filing: Golden Hills Wind, LLC Amendment to MBR Tariff to be effective 1/16/2020.

Filed Date: 1/15/20.

Accession Number: 20200115-5090.

Comments Due: 5 p.m. ET 2/5/20.

Docket Numbers: ER20-804-000.

Applicants: Luz Solar Partners Ltd., V.

Description: § 205(d) Rate Filing: Luz Solar Partners Ltd., V Amendment to MBR Tariff to be effective 1/16/2020.

Filed Date: 1/15/20.

Accession Number: 20200115-5091.

Comments Due: 5 p.m. ET 2/5/20.

Docket Numbers: ER20-805-000.

Applicants: McCoy Solar, LLC.

Description: § 205(d) Rate Filing: McCoy Solar, LLC Amendment to MBR Tariff to be effective 1/16/2020.

Filed Date: 1/15/20.

Accession Number: 20200115-5093.

Comments Due: 5 p.m. ET 2/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2020.
Nathaniel J. Davis, Sr.,
Deputy Secretary.

[FR Doc. 2020-00955 Filed 1-21-20; 8:45 am]

BILLING CODE 6717-01-P